DEPARTMENT OF THE TREASURY

Submission for OMB Review; Comment Request

June 18, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 30, 2001 to be assured of consideration.

Internal Revenue Service (IRS)

OMB Number: 1545-0122.

Form Number: IRS Form 1118, Schedule I and Schedule J.

Type of Review: Revision.

Title: Foreign Tax Credit-Corporations.

Description: Form 1118 and separate Schedules I and J are used by domestic and foreign corporations to claim a credit for taxes paid to foreign countries. The IRS uses Form 1118 and related schedules to determine if the corporation has computed the foreign tax credit correctly.

Respondents: Business or other for-profit.

Estimated Number of Respondents/Recordkeepers: 30,000.

Estimated Burden Hours Per Respondent/Recordkeeper:

Form of schedule | Recordkeeping | Learning about the law or the form | Preparing and sending the form to the IRS
Form 1118 | 97 hr., 19 min | 17 hr., 51 min | 21 hr., 9 min.
Schedule I (Form 1118) | 9hr., 19 min | 1 hr., 0 min | 1 hr., 11 min.
Schedule J (Form 1118) | 106 hr., 25 min | 1 hr., 12 min | 2 hr., 58 min.

Frequency of Response: Annually.

Estimated Total Reporting/Recordkeeping Burden: 4,113,889 hours.

Clearance Officer: Garrick Shear, Internal Revenue Service,Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-16209 Filed 6-27-01; 8:45 am]

BILLING CODE 4830-01-P